ENVIRONMENTAL PROTECTION AGENCY

[EPA-HQ-OPP-2024-0094; FRL-12286-02-OCSPP]

Pesticide Registration Maintenance Fee; Cancellation Order for Certain Pesticide Registrations

AGENCY: Environmental Protection Agency (EPA).

ACTION: Notice.

SUMMARY: Pursuant to the Federal Insecticide, Fungicide, and Rodenticide Act (FIFRA), the Environmental Protection Agency (EPA or Agency) is hereby issuing an order for the cancellations of the pesticide product registrations identified in this document. EPA previously announced its receipt of and requested comment on requests to voluntarily cancel the product registrations listed in table 1 of unit II. and announced its intent to cancel the product registrations listed in table 3 of unit III. With the issuance of this cancelation order, any sale, distribution, or use of products listed in this notice will be permitted after the registrations have been cancelled only if such sale, distribution, or use is consistent with the terms as described in the final order.

DATES: These cancellations are effective January 13, 2025.

ADDRESSES: The docket for this action, identified by docket identification (ID) number EPA-HQ-OPP-2024-0094, is available through https://www.regulations.gov. Additional information about dockets generally, along with instructions for visiting the docket in person, is available at https://www.epa.gov/dockets.

FOR FURTHER INFORMATION CONTACT: Brenda Minnema, Registration Division (7505M), Office of Pesticide Programs, Environmental Protection Agency, 1200 Pennsylvania Ave. NW, Washington, DC 20460-0001; telephone number: (202) 566-2840; email address: minnema.brenda@epa.gov.

SUPPLEMENTARY INFORMATION:

I. Executive Summary

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What is EPA's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request.

FIFRA section 4(i)(5) (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing. Under FIFRA, the EPA Administrator may reduce or waive maintenance fees for minor agricultural use pesticides when it is determined that the fee would be likely to cause significant impact on the availability of the pesticide for the use.

C. What action is the Agency taking?

This cancellation order follows a notice of receipt and opportunity for public comment on the requests from the registrants listed to voluntarily cancel their product registrations. See 89 FR 91382, November 19, 2024 (FRL-12286-01-OCSPP). In that document, EPA also provided a notice of intent to cancel certain other product registrations for non-payment of the 2024 pesticide registration maintenance fees. Since registrations for which the fee is not paid are subject to cancellation by order and without a hearing, EPA did not seek public comment for the cancellation of the products listed.

In that document, EPA indicated that it would issue an order implementing the cancellations, unless the Agency received substantive comments within the 30-day comment period that would merit its further review of these requests, or unless the registrants withdrew their requests. The Agency received comments or withdrawals by the end of the comment period from companies listed in tables 3 and 4 only. Accordingly, EPA hereby issues this cancellation order granting the requested cancellations. Any distribution, sale, or use of the products subject to this cancellation order is permitted only in accordance with the terms of this order, including any existing stocks provisions.

II. Cancellation Order

Pursuant to FIFRA section 6(f) (7 U.S.C. 136d(f)), EPA hereby approves the requested cancellations and orders that the product registrations identified in table 1 of this unit are canceled. The effective date of the cancellations that are the subject of this order is January 13, 2025. Any distribution, sale, or use of existing stocks of the products identified in table 1 and table 3 of this unit in a manner inconsistent with any of the provisions for disposition of existing stocks set forth in unit VII. will be a violation of FIFRA.

Table 1 of this unit lists the product cancellations, as requested by registrants, in sequence by registration number (or company number and FIFRA section 24(c) number).

Table 1—Product Cancellations
Registration No. | Company No. | Product name | Active ingredient
4-142 | 4 | GRUBTOX LAWN GRUB AND INSECT CONTROL | Carbaryl—(4.6%).
4-143 | 4 | BONIDE SEVIN 5% DUST INSECTICIDE | Carbaryl—(5%).
4-413 | 4 | SEVIN GARDEN DUST | Carbaryl—(5%).
4-458 | 4 | COPPER DRAGON TOMATO & VEGETABLE DUST | Basic copper sulfate—(7%), Carbaryl—(2%).
100-702 | 100 | ORBIT FUNGICIDE | Propiconazole—(41.8%).
100-893 | 100 | VARSITY FIRE ANT BAIT | Abamectin—(.011%).
100-1452 | 100 | AWARD II FIRE ANT BAIT | Abamectin—(.011%).
100-1685 | 100 | Oplice | Metalaxyl-M—(45.3%).
538-160 | 538 | TURF BUILDER PLUS 2 W/S FOR GRASS | MCPA—(1.37%), MCPP—(1.37%).
1381-229 | 1381 | TEBU+META | Metalaxyl—(.64%), Tebuconazole—(.48%).
1706-181 | 1706 | 93NF 152 | Sodium bromide—(42.8%).
5383-149 | 5383 | Mergal 760 | 1,2-Benzisothiazolin-3-one—(10.1%), 2-Methyl-3(2H)-isothiazolone—(.53%), 5-Chloro-2-methyl-3(2H)-isothiazolone—(1.67%).
8329-81 | 8329 | NATULAR 1 EC | Spinosad—(10.27%).
8329-107 | 8329 | Natular 10EC | Spinosad—(10.27%).
9198-123 | 9198 | THE ANDERSONS FERTILIZER WITH 0.21% BARRICADE HERBICIDE | Prodiamine—(.21%).
9198-234 | 9198 | THE ANDERSONS BICARB LAWN INSECT KILLER GRANULES | Bifenthrin—(.058%), Carbaryl—(2.3%).
9688-303 | 9688 | BLACK FLAG INSECTICIDE DUST | Deltamethrin—(.05%).
9688-304 | 9688 | TAT ROACH BAIT | Propoxur—(2%).
9688-305 | 9688 | TAT ANT TRAP | Propoxur—(.25%).
66222-10 | 66222 | DIAZINON 50W | Diazinon—(50%).
89459-72 | 89459 | EQUIL CHLORPYRIFOS ULV 1 | Chlorpyrifos—(13.624%).
89459-73 | 89459 | EQUIL CHLORPYRIFOS ULV 2 | Chlorpyrifos—(24.6%).
AL130001 | 67690 | CAPTAIN LIQUID COPPER ALGAECIDE | Copper ethanolamine complex—(28.2%).
AZ080008 | 279 | AIM EC HERBICIDE | Carfentrazone-ethyl—(22.3%).
CA120005 | 100 | GRAMOXONE SL 2. O | Paraquat dichloride—(30.1%).
CO990011 | 5481 | DIBROM 8 EMULSIVE | Naled—(62%).
FL120001 | 66330 | CAPTEC 4L CAPTAN FLOWABLE FUNGICIDE | Captan—(38.75%).
FL980006 | 5481 | ALCO CITRUS FIX | 2,4-D, isopropyl ester—(45%).
GA110006 | 67690 | CAPTAIN LIQUID COPPER ALGAECIDE | Copper ethanolamine complex—(28.2%).
GA120004 | 100 | GRAMOXONE SL 2.0 | Paraquat dichloride—(30.1%).
HI110001 | 5481 | DUPONT ASSURE II HERBICIDE | Quizalofop-p-ethyl—(10.3%).
HI120002 | 100 | TILT FUNGICIDE | Propiconazole—(41.8%).
ID110007 | 67690 | CAPTAIN LIQUID COPPER ALGAECIDE | Copper ethanolamine complex—(28.2%).
ID150011 | 81880 | GWN-1715 | Pyridaben—(75%).
LA120005 | 59639 | V-10142 AG HERBICIDE | Imazosulfuron—(75%).
LA130003 | 279 | CHEMINOVA FOMESAFEN 2.0 HERBICIDE | Sodium salt of fomesafen—(22.8%).
ME130001 | 10163 | MALATHION 8 | Malathion—(79.5%).
ME170001 | 10163 | MALATHION 8 | Malathion—(79.5%).
MN090002 | 70506 | SUPER TIN 80WP | Fentin hydroxide—(80%).
MN190005 | 100 | DUAL MAGNUM HERBICIDE | S-Metolachlor—(83.7%).
MO130002 | 279 | CHEMINOVA FOMESAFEN 2.0 HERBICIDE | Sodium salt of fomesafen—(22.8%).
MS120007 | 100 | GRAMOXONE SL 2. O | Paraquat dichloride—(30.1%).
MS130001 | 279 | CHEMINOVA FOMESAFEN 2.0 HERBICIDE | Sodium salt of fomesafen—(22.8%).
MS140002 | 67690 | CAPTAIN LIQUID COPPER ALGAECIDE | Copper ethanolamine complex—(28.2%).
MT050003 | 5481 | DISCIPLINE 2EC | Bifenthrin—(25.1%).
MT130001 | 100 | GRAMOXONE SL 2.0 | Paraquat dichloride—(30.1%).
NC120004 | 100 | GRAMOXONE SL 2. O | Paraquat dichloride—(30.1%).
NC180002 | 5481 | PARAZONE 3SL HERBICIDE | Paraquat dichloride—(43.8%).
ND090002 | 70506 | SUPER TIN 80WP FUNGICIDE | Fentin hydroxide—(80%).
ND170004 | 279 | F7127 SE HERBICIDE | Carfentrazone-ethyl—(3.53%), Sulfentrazone—(31.77%).
NE150001 | 279 | AIM EC | Carfentrazone-ethyl—(22.3%).
NJ120002 | 100 | GRAMOXONE SL 2.0 | Paraquat dichloride—(30.1%).
NV170001 | 10163 | TREFLAN TR-10 | Trifluralin—(43%).
NV170008 | 10163 | ONAGER EW MITICIDE | Hexythiazox—(11.93%).
NY120015 | 279 | DUPONT UPBEET HERBICIDE | Triflusulfuron-methyl—(50%).
NY140006 | 10163 | ENVIDOR 2 SC | Spirodiclofen—(22.3%).
PR170001 | 100 | PROCLAIM INSECTICIDE | Emamectin benzoate—(5%).
PR180001 | 5481 | DUPONT ASSURE II HERBICIDE | Quizalofop-p-ethyl—(10.3%).
SC000004 | 100 | REWARD LANDSCAPE AND AQUATIC HERBICIDE | Diquat dibromide—(37.3%).
TN210003 | 100 | GRAMOXONE SL 2.0 | Paraquat dichloride—(30.1%).
TN210004 | 100 | GRAMOXONE SL 2.0 | Paraquat dichloride—(30.1%).
TX220002 | 100 | Gramoxone® SL 2.0 | Paraquat dichloride—(30.1%).
WI050002 | 5481 | DACTHAL W-75 | DCPA—(75%).
WY180001 | 5481 | PARAZONE 3SL HERBICIDE | Paraquat dichloride—(43.8%).

Table 2 of this unit includes the names and addresses of record for all registrants of the products in table 1 of this unit, in sequence by EPA company number. This number corresponds to the first part of the EPA registration numbers of the products listed in table 1 of this unit.

Table 2—Registrants of the Voluntarily Cancelled Products
Company No. | Company name and address
4 | Bonide Products, Llc, 6301 Sutliff Road, Oriskany, NY 13424.
100 | Syngenta Crop Protection, Llc, 410 Swing Road, Greensboro, NC 27419.
279 | FMC Corporation, 2929 Walnut Street, Philadelphia, PA 19104.
538 | Scotts Company, The, 14111 Scottslawn Road, Marysville, OH 43041.
1381 | Winfield Solutions, Llc, P.O. Box 64589, St. Paul, MN 55164.
1706 | Nalco Company, Llc, 1601 West Diehl Road, Naperville, IL 60563.
5383 | Troy Chemical Corporation, One Avenue L, Newark, NJ 07105.
5481 | Amvac Chemical Corporation, 4695 Macarthur Court, Suite 1200, Newport Beach, CA 92660.
8329 | Clarke Mosquito Control Products, Inc., 675 Sidwell Court, St. Charles, IL 60174.
9198 | The Andersons, Inc., 1947 Briarfield Blvd., Maumee, OH 43537.
9688 | Chemsico, One Rider Trail Plaza Drive, Suite 300, Earth City, MO 63045.
10163 | Gowan Company, Llc, 370 S Main St., Yuma, AZ 85366.
59639 | Valent U.S.A. Llc, 4600 Norris Canyon Road, San Ramon, CA 94583.
66222 | Makhteshim Agan Of North America, Inc., 8601 Six Forks Road, Suite 300, Raleigh, NC 27615.
66330 | Arysta Lifescience North America Llc, C/O UPL NA Inc., 630 Freedom Business Center, Suite 402, King Of Prussia, PA 19406.
67690 | Sepro Corporation, 11550 N Meridian Street, Suite 600, Carmel, IN 46032.
70506 | UPL NA Inc, P.O. Box 12219, Research Triangle Park, NC 27709.
81880 | Canyon Group Llc, 370 S Main Street, Yuma, AZ 85364.
89459 | Central Garden & Pet Company, 1501 East Woodfield Road, Suite 200w, Schaumburg, IL 60173.

Table 3 of this unit lists all the FIFRA sections 3 and 24(c) registrations that were canceled for non-payment of the 2024 maintenance fee. These registrations are canceled by this order effective January 13, 2025 and without a hearing.

Table 3—Registrations Cancelled for Non-Payment of 2024 Maintenance Fee
Registration No. | Company No. | Product name | Active ingredient
106-72 | 106 | UNICIDE 128 | 1-Decanaminium, N, N-dimethyl-N-octyl-, chloride—(2.4%), 1-Decanaminium, N-decyl-N, N-dimethyl-, chloride—(1.617%), 1-Octanaminium, N, N-dimethyl-N-octyl-, chloride—(1.2%), Alkyl * dimethyl benzyl ammonium chloride *(50%C14, 40%C12, 10%C16)—(3.2%).
106-73 | 106 | UNICIDE 256 | 1-Decanaminium, N, N-dimethyl-N-octyl-, chloride—(4.8%), 1-Decanaminium, N-decyl-N, N-dimethyl-, chloride—(3.23%), 1-Octanaminium, N, N-dimethyl-N-octyl-, chloride—(2.4%), Alkyl * dimethyl benzyl ammonium chloride *(50%C14, 40%C12, 10%C16)—(6.4%).
106-81 | 106 | UNICIDE RTU | 1-Decanaminium, N, N-dimethyl-N-octyl-, chloride—(.0281%), 1-Decanaminium, N-decyl-N, N-dimethyl-, chloride—(.0189%), 1-Octanaminium, N, N-dimethyl-N-octyl-, chloride—(.0141%), Alkyl * dimethyl benzyl ammonium chloride *(50%C14, 40%C12, 10%C16)—(.0375).
106-85 | 106 | UNIQUAT® PLUS 64 | 1-Decanaminium, N-decyl-N, N-dimethyl-, chloride—(2.54%), Alkyl * dimethyl benzyl ammonium chloride *(50%C14, 40%C12, 10%C16)—(1.69%).
211-65 | 211 | TRI-CEN | 2-Benzyl-4-chlorophenol—(4.21%), 4-tert-Amylphenol—(2.22%), o-Phenylphenol (NO INERT USE)—(2.52%).
224-32 | 224 | PHILLIPS FUEL ADDITIVE 56 MB | Diethylene glycol monomethyl ether—(99.7%).
1007-90 | 1007 | DURASECT LIVESTOCK POUR-ON | Permethrin—(1%).
1007-91 | 1007 | DURASECT II | Permethrin—(5%), Piperonyl butoxide—(1%), Pyrethrins—(.1%).
1007-94 | 1007 | MITA-CLEAR | MGK 264—(.5%), MGK 326—(1%), Piperonyl butoxide—(1.5%), Pyrethrins—(.15%).
1007-95 | 1007 | DEMIDITRAZ TECHNICAL | Demiditraz—(100%).
1007-97 | 1007 | LA COMBO | Demiditraz—(14.4%), Fipronil—(4.8%).
1130-20 | 1130 | Disinfectant I | Alkyl * dimethyl benzyl ammonium chloride *(60%C12, 30%C14, 5%C16, 5%C18)—(.185%), n-Alkyl (68% C12, 32% C14) dimethyl dimethylbenzyl ammonium chloride—(.185%).
2749-641 | 2749 | Dicromax 8EC Insecticide | Dicrotophos—(82%).
2749-642 | 2749 | Dicrotophos Technical | Dicrotophos—(85%).
2749-643 | 2749 | Dicromax XP Insecticide | Bifenthrin—(10.8%), Dicrotophos—(43.1%).
3095-25 | 3095 | PIC ROACH CONTROL SYSTEMS | Propoxur—(2%).
3487-27 | 3487 | EAGLES-7 FLEA AND TICK SPRAY | Permethrin—(.5%).
4959-20003 | 4959 | LIQUID CHLORINATION SANITIZER | Sodium hypochlorite—(9.2%).
7698-17 | 7698 | ROLYX-PRO | Gardona (cis-isomer)—(.44%).
7698-18 | 7698 | ROLYX-MAX | Gardona (cis-isomer)—(.68%).
7698-26 | 7698 | SWEETLIX FLY CONTROL RABON MINERAL/VITAMIN MOLASSES BLOCK | Tetrachlorvinphos—(.494%).
7698-27 | 7698 | SWEETLIX 16:8 FREE CHOICE MINERAL WITH RABON ORAL LARVICIDE | Gardona (cis-isomer)—(.494%).
7698-29 | 7698 | V.M.S. PEST-A-SIDE BLOCK W/RABON | Gardona (cis-isomer)—(.3%).
7698-30 | 7698 | ENPROAI FLY CONTROL BLOCK WITH RABON ORAL LARVICIDE | Gardona (cis-isomer)—(.3%).
9009-17 | 9009 | ONLINE 825 | Sodium hypochlorite—(8.25%).
9404-80 | 9404 | WEED & FEED WITH 0.57% ATRAZINE FOR ST. AUGUSTINE LAWNS | Atrazine—(.55%).
9404-94 | 9404 | SUNNILAND XX-X-X LAWN FOOD WITH 0.069% BIFENTHRIN INSECTICIDE | Bifenthrin—(.069%).
11773-3 | 11773 | CORNBELT 4 LB. LOVOL ESTER | 2,4-D, 2-ethylhexyl ester—(66%).
11773-20 | 11773 | CORNBELT METRO | 2,4-D, 2-ethylhexyl ester—(87.2%).
20729-20001 | 20729 | KLENS-CHLOR | Sodium hypochlorite—(12.5%).
21165-24 | 21165 | PYRANHA AQUEOUS 30-3 | Piperonyl butoxide—(30%), Pyrethrins—(3%).
21165-39 | 21165 | PYRANHA INSECTICIDES EQUINE SPRAY AND WIPE CONCENTRATE | Permethrin—(.6%), Piperonyl butoxide—(3%), Pyrethrins—(.3%).
21165-50 | 21165 | PYRANHA INSECTICIDES AQUEOUS EQUINE SPRAY | Permethrin—(.1%), Piperonyl butoxide—(.5%), Pyrethrins—(.05%).
21165-63 | 21165 | RITTER'S FLEA & TICK SPRAY | MGK 264—(.5%), MGK 326—(.5%), Piperonyl butoxide—(1.5%), Pyrethrins—(.15%).
21268-18 | 21268 | BLUE SHIELD ALGICIDE | Alkyl * dimethyl benzyl ammonium chloride *(60%C14, 30%C16, 5%C18, 5%C12)—(2.49%), Dialkyl * methyl benzyl ammonium chloride *(60% C14, 30% C16, 5% C18, 5% C12)—(.01%).
21268-22 | 21268 | Blue Shield Shock Treatment | Sodium hypochlorite—(12.5%).
32273-10 | 32273 | Behr Sanitizing Paint | Cupric oxide—(.351%).
33427-30 | 33427 | Aceto Buprofezin Technical | Buprofezin—(99.1%).
33427-35 | 33427 | Dicrotophos Technical | Dicrotophos—(85%).
34370-3 | 34370 | Ultimate Zapper Wasp & Hornet Spray II | Permethrin—(.375%), Piperonyl butoxide—(.75%), Tetramethrin—(.15%).
35900-22 | 35900 | X-462 BACTERIOSTATIC SILVER IMPREGNATED ACTIVATED CARBON | Silver—(1.05%).
35900-23 | 35900 | NEXT GENERATION | Silver—(.1%).
36638-28 | 36638 | NOMATE TPW MEC | (E)-4-Tridecen-l-yl acetate—(19.4%), (Z)-4-Tridecen-1-yl acetate—(.6%).
36864-1 | 36864 | CHIGG AWAY | Sulfur—(10%).
38104-4 | 38104 | CHEM-TAB AT-8 | Alkyl * dimethyl benzyl ammonium chloride *(60%C14, 30%C16, 5%C18, 5%C12)—(40%).
41619-1 | 41619 | LIQUID CHLORINATING PRODUCT | Sodium hypochlorite—(12.5%).
42519-38 | 42519 | LBG-W-MUP | Dipotassium phosphite (K2HPO3)—(54.5%).
42882-2 | 42882 | Epibloc | alpha-Chlorohydrin—(1%).
46579-3 | 46579 | PYRA-FOG I CONTACT AND SPACE SPRAY | MGK 264—(3%), Piperonyl butoxide—(2%), Pyrethrins—(1%).
46579-6 | 46579 | PYRA—FOG 5 | MGK 264—(1.67%), Piperonyl butoxide—(1%), Pyrethrins—(.5%).
46779-1 | 46779 | SODIUM FLUOROACETATE (COMPOUND 1080) LIVESTOCK PROTECTION COLLAR | Sodium fluoroacetate—(1%).
47265-1 | 47265 | ORIENTAL FRUIT MOTH TECHNICAL PHEROMONE | (E)-8-Dodecen-1-yl acetate—(5.9%), (Z)-8-Dodecen-1-yl acetate—(92%), Dodecen-1-ol, (Z)—(1%).
47265-2 | 47265 | CODLING MOTH TECHNICAL PHEROMONE | CheckMate Technical Pheromone—(91.7%).
47265-5 | 47265 | E-11/Z-11-TETRADECENYL ACETATE TECHNICAL PHEROMONE | (E)-11-Tetradecen-1-ol acetate—(75.1%), (Z)-11-Tetradecenyl acetate—(23.14%).
48234-7 | 48234 | CONSYST WDG | Chlorothalonil—(50%), Thiophanate-methyl—(16.66%).
48234-8 | 48234 | REGALKADE 30 | Prodiamine—(.3%).
48234-13 | 48234 | SYSTEC 1998 WDG | Thiophanate-methyl—(85%).
49538-6 | 49538 | Spectrum-17-A | Copper sulfate pentahydrate—(7.88%).
51219-7 | 51219 | Actabs | Alkyl * dimethyl benzyl ammonium chloride *(60%C14, 30%C16, 5%C18, 5%C12)—(10%), Alkyl * dimethyl ethylbenzyl ammonium chloride *(68%C12, 32%C14)—(10%).
51311-4 | 51311 | BLACK JACK ROACH BAITS | Propoxur—(2%).
52484-5 | 52484 | BIOCLEAR 1430 ANTIMICROBIAL | Alkyl * dimethyl benzyl ammonium chloride *(50%C14, 40%C12, 10%C16)—(3%), Glutaraldehyde—(14%).
53575-33 | 53575 | ISOMATE LBAM PLUS | (E)-11-Tetradecen-1-ol acetate—(67.15%), 9,11-tetradecadien-1-ol, acetate, (9E, 11Z)—(2.74%).
54998-1 | 54998 | 3″ TABLETS | Trichloro-s-triazinetrione—(99%).
54998-4 | 54998 | FORMULA 500 | Poly(oxy-1,2-ethanediyl(dimethylimino)-1,2-ethanediyl(dimethylimino)-1,2-ethanediyl dichloride)—(40%).
54998-6 | 54998 | MINI-TABS | Trichloro-s-triazinetrione—(99%).
54998-14 | 54998 | POOLBOSS GRANULAR | Sodium dichloroisocyanurate dihydrate—(99%).
54998-20005 | 54998 | POOL SHOCK | Calcium hypochlorite—(65%).
55467-16 | 55467 | TENKOZ ETHEPHON 6 PGR | Ethephon—(55.4%).
56336-1 | 56336 | CHECKMATE (R) PBW | 7,11-Hexadecadien-1-ol, acetate, (E, Z)—(40.4%), 7,11-Hexadecadien-1-ol, acetate, (Z, Z)—(40.4%).
56336-19 | 56336 | CONSEP SPR5M PBW SPRAYABLE BEAD PHEROMONE | 7,11-Hexadecadien-1-ol, acetate, (E, Z)—(11.195%), 7,11-Hexadecadien-1-ol, acetate, (Z, Z)—(11.195%).
56336-25 | 56336 | CHECKMATE OLR-F OMNIVOROUS LEAFROLLER (PLAYTONIA STULTANA) | (E)-11-Tetradecen-1-ol acetate—(20.57%), (Z)-11-Tetradecenyl acetate—(3.19%).
56336-46 | 56336 | CHECKMATE OFM-FS | (E)-8-Dodecen-1-yl acetate—(1.26%), (Z)-8-Dodecen-1-yl acetate—(18.73%), Dodecen-1-ol, (Z)- —(.23%).
56336-49 | 56336 | CHECKMATE CM-OFM DUEL | (E)-8-Dodecen-1-yl acetate—(.77%), (Z)-8-Dodecen-1-yl acetate—(12%), CheckMate Technical Pheromone—(17.54%), Dodecen-1-ol, (Z)- —(.13%).
56336-52 | 56336 | CERTIS TECHNICAL OLIVE FLY PHEROMONE | 1,7-Dioxaspiro [5.5] undecane—(97.6%).
56336-56 | 56336 | CHECKMATE VMB DISPENSER | 2-Butenoic acid, 3-methyl-, 5-methyl-2-(1-methylethenyl)-4-hexenyl ester—(5.91%).
58007-9 | 58007 | 3M ULTRATHON INSECT REPELLENT PUMP | Diethyl toluamide—(19%).
58945-1 | 58945 | DORMANT FLOWABLE EMULSION INSECTICIDE | Mineral oil—includes paraffin oil from 063503—(80%).
59106-1 | 59106 | BIO CLEAR 1000 | 2,2-Dibromo-3-nitrilopropionamide—(98%).
59106-5 | 59106 | DBNPA TECHNICAL | 2,2-Dibromo-3-nitrilopropionamide—(98%).
59106-6 | 59106 | BIO-CLEAR 2000 | 2,2-Dibromo-3-nitrilopropionamide—(20%).
59106-7 | 59106 | BIO-CLEAR 5000 | 2,2-Dibromo-3-nitrilopropionamide—(5%).
59106-8 | 59106 | BIOCLEAR G50 ANTIMICROBIAL | Glutaraldehyde—(51.1%).
59657-2 | 59657 | COLOR RIPE/WITCHAWAY | Ethylene—(99.9%).
59807-16 | 59807 | OHP CHIPCO 26019 | Iprodione—(50%).
59807-17 | 59807 | DECATHLON 20 WP | Cyfluthrin—(20%).
59807-18 | 59807 | DISCUS L | Cyfluthrin—(.7%), Imidacloprid—(2.94%).
59825-1 | 59825 | Mykon AML | Tetraacetylethylenediamine—(92%).
64137-35 | 64137 | MELOCON WG | Purpureocillium lilacinum strain 251—(6%).
64910-1 | 64910 | BOX | Boron sodium oxide (B8Na2O13) (12008-41-2)—(100%).
65656-4 | 65656 | GLYPHOSATE 41% | Glyphosate, isopropylamine salt—(41%).
65656-5 | 65656 | GLYPHOSATE 62% MC | Glyphosate, isopropylamine salt—(62%).
65656-6 | 65656 | GLUFOSINATE 280 HERBICIDE | Glufosinate—(24.5%).
65787-1 | 65787 | AMUCHINA | Sodium hypochlorite—(1.02%).
67503-2 | 67503 | MEDACHIEVE MULTI-PURPOSE 10% E.C | Permethrin—(10%).
68186-1 | 68186 | DETUR | Jojoba oil—(97.5%).
68719-2 | 68719 | VITA GROW READY TO USE ROOTING COMPOUND | 1-Naphthaleneacetic acid—(.076%), Indole-3-butyric acid—(.133%).
69151-1 | 69151 | PAROX HOSPITAL DISINFECTANT | Sodium chlorite—(10%).
69340-4 | 69340 | EOGAS AN-2014 | Ethylene oxide—(96%).
69361-37 | 69361 | TEBUCONAZOLE 45DF FUNGICIDE | Tebuconazole—(45%).
69407-1 | 69407 | FLEA, TICK AND EAR MITE TREATMENT | Piperonyl butoxide—(1.5%), Pyrethrins—(.15%).
69526-15 | 69526 | PC HERBICIDE CONCENTRATE PLUS | 2,4-D, dimethylamine salt—(.885%), Dicamba, dimethylamine salt—(.109%), MCPP-P, DMA salt—(.573%).
69766-1 | 69766 | GIBBMAX | Gibberellic acid—(4%).
69766-2 | 69766 | KALGIBB | Gibberellic acid—(93%).
70062-6 | 70062 | BABOLNA BIO METHOPRENE ANT KILLER BAIT | Methoprene—(.5%).
70062-10 | 70062 | (S)-METHOPRENE TECHNICAL | S-Methoprene—(95.5%).
70209-1 | 70209 | PREVENTOL S600-L | Octhilinone—(.3%).
70305-2 | 70305 | PARAGON MOTH BARS | Paradichlorobenzene—(99.75%).
70305-3 | 70305 | PARAGON MOTH FLAKES | Paradichlorobenzene—(99.9%).
70385-8 | 70385 | PROFESSIONAL STRENGTH MULTI-PURPOSE ANTIBACTERIAL CLEANER | 1-Decanaminium, N, N-dimethyl-N-octyl-, chloride—(.025%), 1-Decanaminium, N-decyl-N, N-dimethyl-, chloride—(.015%), 1-Octanaminium, N, N-dimethyl-N-octyl-, chloride—(.01%), Alkyl * dimethyl benzyl ammonium chloride *(50%C14, 40%C12, 10%C16)—(.034%).
70804-1 | 70804 | ULTRAFLOC ALGAESOLVE II | Copper sulfate pentahydrate—(25%).
71297-18 | 71297 | MANUFACTURING-USE PRODUCT—PTNC | 1-Methylcyclopropene—(2%).
71332-5 | 71332 | EPL 0.25 SILVER/CERAMIC FILTER MATERIAL | Silver—(.25%).
71406-1 | 71406 | WOCOSEN 50 SL | Propiconazole—(4.5%).
71406-5 | 71406 | DAZOMET PELLETS | Dazomet—(99%).
72265-4 | 72265 | Frontiersman Bear Attack Deterrent II | Capsaicin—(2%).
72500-17 | 72500 | KAPUT RODENT FLEA CONTROL BAIT | Imidacloprid—(.025%).
72959-3 | 72959 | FUMITOXIN BAGS | Aluminum phosphide—(55%).
73479-4 | 73479 | PARAMOUNT NOW/PTB | (Z, Z)-11,13-Hexadecadienal—(.6667%), 5-Decen-1-ol, (E)- —(5.33%), 5-Decen-1-ol, acetate, (E)- —(21.34%).
73479-5 | 73479 | PARAMOUNT AEROSOL NOW/CM | (Z, Z)-11,13-Hexadecadienal—(.62%), CheckMate Technical Pheromone—(24.23%).
73479-7 | 73479 | PARAMOUNT AEROSOL NOW/PTB2 | (Z, Z)-11,13-Hexadecadienal—(.6667%), 5-Decen-1-ol, (E)- —(3.3244%), 5-Decen-1-ol, acetate, (E)- —(13.3333%).
73667-4 | 73667 | MB 2002 G | Copper as elemental—(4%).
73711-5 | 73711 | BIOLENE BX | Ethylene oxide—(100%).
74267-1 | 74267 | PRO-MIX WITH BIOFUNGICIDE | Bacillus amyloliquefaciens MBI 600 (antecedent Bacillus subtilis MBI 600)—(.001%).
74559-6 | 74559 | OXY-RES (CONCENTRATE) | Hydrogen peroxide—(4.25%).
74559-8 | 74559 | Accel 5 RTU | Hydrogen peroxide—(.5%).
74559-11 | 74559 | OXY-5 (Concentrate) Disinfectant Cleaner | Hydrogen peroxide—(7.6%).
74559-12 | 74559 | OXY 5 Concentrate Disinfectant Cleaner | Hydrogen peroxide—(7.6%).
75459-1 | 75459 | ANTIBACTERIAL WIPE | Alkyl * dimethyl benzyl ammonium chloride *(60%C14, 30%C16, 5%C18, 5%C12)—(.5%), Alkyl * dimethyl ethylbenzyl ammonium chloride *(68%C12, 32%C14)—(.5%).
75661-1 | 75661 | COLD-STER | Calcium oxide—(86.8%).
79533-7 | 79533 | Coleman Insect Repellent | Diethyl toluamide—(40%).
81242-1 | 81242 | YGIENE 206 | Ethaneperoxoic acid—(.6%), Hydrogen peroxide—(6.14%).
81927-29 | 81927 | ALLIGARE EVERETT HERBICIDE | 2,4-D, butoxyethyl ester—(34.4%), Triclopyr, butoxyethyl ester—(16.5%).
81927-67 | 81927 | Alligare FLUMI BG | Flumioxazin—(51%).
81927-76 | 81927 | Alligare Imazapyr 75 WDG | Imazapyr—(75%).
81927-87 | 81927 | Alligare Sulfentrazone 75WDG | Sulfentrazone—(75%).
81936-1 | 81936 | WEED WORKS WEED & GRASS KILLER | Vinegar—(20%).
81951-1 | 81951 | KILLZ-ALL 60 ALUMINUM PHOSPHIDE FUMIGANT TABLETS | Aluminum phosphide—(60%).
81951-2 | 81951 | KILLZ-ALL 60 ALUMINUM PHOSPHIDE FUMIGANT PELLETS | Aluminum phosphide—(60%).
82012-1 | 82012 | ANTIMICROBIAL COPPER ALLOYS—GROUP I | Copper as elemental—(96.2%).
82012-2 | 82012 | ANTIMICROBIAL COPPER ALLOYS—GROUP II | Copper as elemental—(91.3%).
82012-4 | 82012 | ANTIMICROBIAL COPPER ALLOYS—GROUP IV | Copper as elemental—(73%).
82012-6 | 82012 | ANTIMICROBIAL COPPER ALLOYS—GROUP VI | Copper as elemental—(62%).
82012-7 | 82012 | HVAC ANTIMICROBIAL COPPER ALLOY SURFACE MATERIALS | Copper as elemental—(96.2%).
82123-1 | 82123 | ACTIVEGUARD MATTRESS LINER | Permethrin—(1.64%).
82123-2 | 82123 | ACTIVEGUARD FABRIC | Permethrin—(1.64%).
82796-1 | 82796 | NAPCO BLEACH | Sodium hypochlorite—(10%).
82796-3 | 82796 | 12.5% NAPCO BLEACH | Sodium hypochlorite—(12.5%).
82810-1 | 82810 | DERMAEGIS LIPODEET INSECT REPELLENT 302 | Diethyl toluamide—(30%).
83168-1 | 83168 | Sodium Hypochlorite 12.5% | Sodium hypochlorite—(12.5%).
83190-7 | 83190 | Liquid Harvest Concentrated Indoor & Outdoor Insect Control | Bifenthrin—(7.9%).
83190-8 | 83190 | LIQUID HARVEST QUINCLORAC | QUINCLORAC, DIMETHYLAMINE SALT—(18.92%).
83451-24 | 83451 | BELLACIDE 370 | Poly(oxy-1,2-ethanediyl(dimethylimino)-1,2-ethanediyl(dimethylimino)-1,2-ethanediyl dichloride)—(60%).
83933-2 | 83933 | BIOGUARD TRI-BOR PASTE | Boric acid—(10%), Sodium borate pentahydrate—(45%), Zinc borate (3ZnO, 2B03, 3.5H2O; mw 434.66)—(5%).
83997-5 | 83997 | ACQ 2102 | Alkyl * dimethyl benzyl ammonium chloride *(67%C12, 25%C14, 7%C16, 1%C18)—(4.6%), Copper ethanolamine complex—(21.4%).
84059-19 | 84059 | MBI-011 TGAI | Sarmentine ((E, E)-1-(1-oxo-2,4-decadienyl) pyrrolidine—(99.3%).
84059-20 | 84059 | MBI-011 EP | Sarmentine ((E, E)-1-(1-oxo-2,4-decadienyl) pyrrolidine—(50%).
84069-1 | 84069 | SUMMERSET ALLDOWN CONCENTRATE | Citric acid—(14%), Vinegar—(23%).
84069-2 | 84069 | SUMMERSET ALLDOWN HERBICIDE | Citric acid—(6%), Vinegar—(8%).
84149-1 | 84149 | BLUE EXCESS DICHLOR SHOCK | Sodium dichloroisocyanurate dihydrate—(99%).
84149-2 | 84149 | BLUE EXCESS TRICHLOR SHOCK | Trichloro-s-triazinetrione—(99%).
84149-3 | 84149 | BLUE EXCESS CHLORINATING TABLETS | Trichloro-s-triazinetrione—(99%).
84189-1 | 84189 | PRODUCT EP 1% | Silver chloride—(.2%).
84189-2 | 84189 | PRODUCT EP 10% | Silver chloride—(1.75%).
84396-30 | 84396 | KILLER FOR ICE PLANT WEEDS | Magnesium chloride—(20.4%).
84396-43 | 84396 | RODSPRAY FLY, COCKROACH, AND ANT KILLER | D-Limonene—(4.015%).
85493-2 | 85493 | REPELLEX SYSTEMIC TABLET | Capsaicin—(.3%).
85493-3 | 85493 | REPELLEX SYSTEMIC GRANULAR | Capsaicin—(.3%).
86014-1 | 86014 | THYMOL MATERIALS PRESERVATIVES | Thymol—(97.8%).
86064-1 | 86064 | ARMORTECH CLT 825 DF | Chlorothalonil—(82.5%).
86064-2 | 86064 | ARMOR TECH CLT 720 FL | Chlorothalonil—(54%).
86064-3 | 86064 | ARMOR TECH PGR 113 MC | Trinexapac-ethyl—(11.3%).
86064-4 | 86064 | ARMOR TECH PPZ 143 MC | Propiconazole—(14.3%).
86064-5 | 86064 | ARMORTECH (R) THREESOME(TM) | 2,4-D, dimethylamine salt—(30.56%), Dicamba, dimethylamine salt—(2.77%), MCPP-P, DMA salt—(8.17%).
86064-6 | 86064 | ArmorTech ZOXY 2F | Azoxystrobin—(22.9%).
86064-7 | 86064 | ArmorTech IMD 2F | Imidacloprid—(21.4%).
86064-8 | 86064 | ArmorTech TEB 360F | Tebuconazole—(38.7%).
86064-9 | 86064 | ArmorTech TM 462 F | Thiophanate-methyl—(46.2%).
86064-10 | 86064 | ArmorTech TEBU 3.6 F | Tebuconazole—(38.7%).
86106-1 | 86106 | PG721ST | Silver Ion (Ag1+)—(1.4%).
86197-3 | 86197 | FSTI SODIUM HYPOCHLORITE 12.5% | Sodium hypochlorite—(12.5%).
86197-4 | 86197 | FSTI SODIUMHYPOCHLORITE 10% | Sodium hypochlorite—(10%).
86277-1 | 86277 | FARMWAY GLYPHOSATE 62% MANUFACTURING CONCENTRATE | Glyphosate, isopropylamine salt—(62%).
86277-2 | 86277 | FARMWAY GLYPHOSATE TECHNICAL | Glyphosate—(98.5%).
86277-3 | 86277 | FARMWAY GLYPHOSATE 41% SL | Glyphosate, isopropylamine salt—(41%).
86583-3 | 86583 | METHYL ANTHRANILATE TECHNICAL | Methyl anthranilate—(99.94%).
86583-4 | 86583 | ECOBIRD 4.0 | Methyl anthranilate—(40%).
86583-5 | 86583 | EcoBird 14.5 | Methyl anthranilate—(14.5%).
86829-1 | 86829 | MacroTech Copper Ion Generator | Copper as elemental—(99.8%).
87326-1 | 87326 | BANOLE HV | Mineral oil—includes paraffin oil from 063503—(100%).
87358-1 | 87358 | STAY FRESH ANTIMICROBIAL | Hydrogen peroxide—(50%).
87518-3 | 87518 | (HSP2O) PRO | Hypochlorous Acid—(.105%).
87656-3 | 87656 | Bio-Spear Sanitizing Wipes | 1-Decanaminium, N-decyl-N, N-dimethyl-, chloride—(.9%), 1-Octadecanaminium, N, N-dimethyl-N-[3-(trihydroxysilyl) propyl], chloride—(.54%).
87703-2 | 87703 | 8 IN 1 MITE & LICE BIRD SPRAY | Piperonyl butoxide—(.3%), Pyrethrins—(.03%).
87703-3 | 87703 | FLEA AND TICK SPRAY FOR SMALL ANIMALS | Piperonyl butoxide—(.6%), Pyrethrins—(.06%).
87769-3 | 87769 | OXYFLUORFEN 2E HERBICIDE | Oxyfluorfen—(22.3%).
87769-4 | 87769 | Oxyfluorfen Technical | Oxyfluorfen—(99%).
88347-1 | 88347 | PHYLLOM SDS-502 MP | Bacillus thuringiensis subspecies galleriea, strain SDS-502, fermentation solids, spores, and insecticidal toxins—(90%).
88347-2 | 88347 | GRUBGONE! G | Bacillus thuringiensis subspecies galleriea, strain SDS-502, fermentation solids, spores, and insecticidal toxins—(9%).
88347-3 | 88347 | PHYLLOM BEETLEGONE! BIOLOGICAL INSECTICIDE | Bacillus thuringiensis subspecies galleriea, strain SDS-502, fermentation solids, spores, and insecticidal toxins—(76.5%).
88714-5 | 88714 | K-BROM G | 2,4-Imidazolidinedione, 1-bromo-3-chloro-5,5-dimethyl—(98%).
88714-6 | 88714 | K-BAC 1000 | 2,2-Dibromo-3-nitrilopropionamide—(98%).
88760-4 | 88760 | PLASMA NEEM OIL (AZADIRACHTIN 3000 PPM) BIOLOGICAL INSECTICIDE | Neem oil (See Kerry Leifer. No Inert Use without his clearance.)—(100%).
88999-1 | 88999 | SANITECT | 1-Octadecanaminium, N, N-dimethyl-N-(3-(trimethoxysilyl) propyl)-, chloride—(72%).
88999-2 | 88999 | ALGAECIDE | Poly(oxy-1,2-ethanediyl(dimethylimino)-1,2-ethanediyl(dimethylimino)-1,2-ethanediyl dichloride)—(6%).
88999-3 | 88999 | ALGAECIDE 4.5 | Poly(oxy-1,2-ethanediyl(dimethylimino)-1,2-ethanediyl(dimethylimino)-1,2-ethanediyl dichloride)—(4.5%).
88999-4 | 88999 | PEROXY TECH GRANULAR | Sodium percarbonate—(42.5%).
89816-3 | 89816 | MEBROM 70-30 | Chloropicrin—(30%), Methyl bromide (NO INERT USE)—(70%).
89867-2 | 89867 | AIRGAS SULFUR DIOXIDE | Sulfur dioxide—(99.9%).
90098-1 | 90098 | AM601 Pod | Transfluthrin—(6%).
90098-3 | 90098 | LN3 Slug and Snail Killer | Sodium ferric ethylenediaminetetraacetate—(6%).
90271-1 | 90271 | PCS 7000 | Sodium hypochlorite—(.735%).
90287-1 | 90287 | MAQUAT 25.6-PDX | Alkyl * dimethyl benzyl ammonium chloride *(60%C14, 30%C16, 5%C18, 5%C12)—(.625%), Alkyl * dimethyl ethylbenzyl ammonium chloride *(68%C12, 32%C14)—(.625%).
90290-1 | 90290 | COCKROACH KILLER PUTTY | Boric acid—(50%).
91163-2 | 91163 | FourSure | Aspergillus flavus strain TC16F—(.00024%), Aspergillus flavus strain TC35C—(.00024%), Aspergillus flavus strain TC38B—(.00024%), Aspergillus flavus strain TC46G—(.00024%).
91174-1 | 91174 | COPPER CAT LIQUID COPPER | Copper sulfate pentahydrate—(19.7%).
91243-1 | 91243 | Fortress Mussel Control Systems | Copper as elemental—(99.8%).
91283-9 | 91283 | AXP10
91283-12 | 91283 | Amoeba EP #2 | Willaertia magna C2c.Maky—(1%).
91283-13 | 91283 | Amoeba EP #1 | Willaertia magna C2c.Maky—(.1%).
91411-3 | 91411 | KOCIDE 101 | Copper hydroxide—(77%).
91411-7 | 91411 | MANKOCIDE FUNGICIDE/BACTERICIDE | Copper hydroxide—(46.1%), Mancozeb—(15%).
91605-5 | 91605 | MCSI Mosquito Trap | Permethrin—(.022%), Pyriproxyfen—(.00031%).
91853-3 | 91853 | ATO CIDE GRANULAR | Potassium silicate—(10%), Sodium percarbonate—(50%), Tetraacetylethylenediamine—(20%).
91899-1 | 91899 | MDF-200 PART A | Alkyl * dimethyl benzyl ammonium chloride *(50%C14, 40%C12, 10%C16)—(3.2%).
91899-2 | 91899 | MDF-200 PART B | Hydrogen peroxide—(7.9%).
92024-3 | 92024 | MicroShield 360 Antibacterial | Dimethyl isopropylaminophenanthrene—(1%).
92029-1 | 92029 | FORTUNE COPPER-COPPER OXIDE POWDER | Cupric oxide—(100%).
92138-1 | 92138 | MITE OUT | Abamectin—(.0012%).
92388-2 | 92388 | Lemi Shine Disinfectant Spray | Citric acid—(1.32%), Hydrogen peroxide—(1.95%), L-Lactic acid—(1.39%).
92393-1 | 92393 | Xypex Bio-San C-500 (Grey) | Copper as elemental—(5.55%), Silver—(.12%).
92413-1 | 92413 | TEVRA FIPRONIL + METHOPRENE SPOT-ON FOR CATS | Fipronil—(9.8%), S-Methoprene—(11.8%).
92413-2 | 92413 | TEVRA FIPRONIL + METHOPRENE SPOT-ON FOR DOGS | Fipronil—(9.8%), S-Methoprene—(8.8%).
92413-7 | 92413 | 4% Deltamethrin Collar for Dogs | Deltamethrin—(4%).
92413-10 | 92413 | TEVRA Imidacloprid + Pyriproxyfen Spot On for Cats | Imidacloprid—(9.1%), Pyriproxyfen—(.46%).
92413-12 | 92413 | TEVRA Permethrin + Methoprene Spot On for Dogs | Permethrin—(45%), S-Methoprene—(1.2%).
92413-13 | 92413 | TEVRA Imidacloprid + Pyriproxyfen Spot On for Dogs | Imidacloprid—(9.1%), Pyriproxyfen—(.46%).
92413-14 | 92413 | TEVRA Deltamethrin + Pyriproxyfen Collar for Dogs | Deltamethrin—(4%), Pyriproxyfen—(.5%).
92686-1 | 92686 | REXCU-S | Copper sulfate pentahydrate—(19.8%).
92967-5 | 92967 | MOSS AVENGER—MOSS & ALGAE CONTROL | D-Limonene—(23%).
93113-2 | 93113 | DoxyKlor DK5G | Chlorine dioxide—(.05%).
93365-3 | 93365 | MESOTRIONE TECHNICAL 2 | Mesotrione—(98%).
93392-3 | 93392 | Aquaox Disinfectant 1650 | Hypochlorous Acid—(.165%).
93455-1 | 93455 | RAISAN | Chitosan—(2.5%).
93496-2 | 93496 | NEOTERICA PROTECTO 4 | Fipronil—(9.78%), Pyriproxyfen—(2.94%).
93496-3 | 93496 | Neoterica Protecto Delta | Deltamethrin—(4%).
93585-1 | 93585 | Microfex 1425 | Alkyl * dimethyl benzyl ammonium chloride *(50%C14, 40%C12, 10%C16)—(2.5%), Glutaraldehyde—(14%).
93672-1 | 93672 | NEOSAN LABS PART A | Alkyl * dimethyl benzyl ammonium chloride *(50%C14, 40%C12, 10%C16)—(3.2%).
93672-2 | 93672 | NEOSAN LABS PART B | Hydrogen peroxide—(7.9%).
93740-2 | 93740 | LOCAL 20 WEED TERMINATOR | Vinegar—(20%).
93756-1 | 93756 | Purox Bleach | Sodium hypochlorite—(6%).
93756-2 | 93756 | TECHNI BLEACH | Sodium hypochlorite—(6%).
93756-3 | 93756 | Victoria Bay | Sodium hypochlorite—(%).
93756-4 | 93756 | Stern X | Sodium hypochlorite—(6%).
94278-4 | 94278 | Ethephon 75% MUP | Ethephon—(75%).
94396-2 | 94396 | SKYLARK | Tebuconazole—(38.7%).
94396-3 | 94396 | T-BIRD 4.5L | Thiophanate-methyl—(46.2%).
94396-4 | 94396 | AVOCET AQUATIC HERBICIDE | Glyphosate, isopropylamine salt—(53.8%).
94396-5 | 94396 | KESTREL MEX | Propiconazole—(14.3%).
94396-6 | 94396 | PEREGRINE | Chlorothalonil—(50%), Thiophanate-methyl—(16.66%).
94396-7 | 94396 | FIREBIRD PRO | Bifenthrin—(7.9%).
94396-8 | 94396 | IMIGOLD 75 WSP | Imidacloprid—(75%).
94396-9 | 94396 | HAWK-I 2L | Imidacloprid—(21.4%).
94396-10 | 94396 | GOLDWING | Trinexapac-ethyl—(11.3%).
94396-11 | 94396 | RAVEN | Iprodione—(23.3%).
94396-13 | 94396 | GULLWING | Imazapyr, isopropylamine salt—(27.77%).
94396-14 | 94396 | KRAKEN | Triclopyr, triethylamine salt—(44.4%).
94396-15 | 94396 | KNIGHTHAWK | Prodiamine—(65%).
94396-16 | 94396 | HAWK-I N/O 60WSP | Imidacloprid—(60%).
94396-17 | 94396 | HAWK-I N/O 2L | Imidacloprid—(21.4%).
94396-18 | 94396 | AVOCET PLX | Glyphosate, isopropylamine salt—(53.8%).
94396-19 | 94396 | VIREO 2E | Metalaxyl—(23%).
94396-20 | 94396 | MERLIN ORNAMENTAL | Abamectin—(1.9%).
94396-21 | 94396 | STARFIGHTER L | Oxadiazon—(34.1%).
94396-22 | 94396 | ROOK 4L | Quinclorac—(40%).
94396-23 | 94396 | PHOENIX THRASHER | Ethofumesate—(42%).
94396-24 | 94396 | SISKIN | Myclobutanil—(19.7%).
94396-25 | 94396 | KNIGHTHAWK 4F | Prodiamine—(40.7%).
94396-26 | 94396 | PHOENIX CARDINAL | Ethephon—(21.7%).
94396-27 | 94396 | JETPHITER | Dipotassium phosphite (K2HPO3)—(45.5%).
94396-28 | 94396 | JAEGER | Dithiopyr—(24%).
94396-34 | 94396 | Aquatrols Trinexapac-Ethyl | Trinexapac-ethyl—(12%).
94865-1 | 94865 | Dish Sani Concentrate | Sodium hypochlorite—(12.5%).
95366-1 | 95366 | MiteXstream | Citronellol—(.21%), Geraniol—(.23%).
95729-1 | 95729 | Propagate AGC | Cytokinin (as kinetin)—(.05%), Gibberellic acid—(.05%), Indole-3-butyric acid—(.09%).
95921-2 | 95921 | ACTIVE RESPONSE | Hypochlorous Acid—(.05%).
96282-1 | 96282 | Ceravida Fresh. | Chitosan—(3.4%).
96738-3 | 96738 | AKTIVE Disinfecting Wipes | 1-Decanaminium, N-decyl-N, N-dimethyl-, chloride—(.589%), Alkyl * dimethyl benzyl ammonium chloride *(50%C14, 40%C12, 10%C16)—(.449%), Ethanol—(5.08%).
98159-1 | 98159 | BIO5700 | 1-Octadecanaminium, N, N-dimethyl-N-(3-(trimethoxysilyl) propyl)-, chloride—(.84%).
98919-1 | 98919 | Caspian Disinfectant | Hypochlorous Acid—(.045%).
99503-3 | 99503 | ENVIROQUAT MBEB 80e | Alkyl * dimethyl benzyl ammonium chloride *(60%C14, 30%C16, 5%C18, 5%C12)—(40%), Alkyl * dimethyl ethylbenzyl ammonium chloride *(68%C12, 32%C14)—(40%).
100219-1 | 100219 | Algae Magic Eliminator | Copper sulfate pentahydrate—(99%).
100764-1 | 100764 | CUTTONTM 1902 Antimicrobial | Copper sulfate pentahydrate—(1.66%).
101928-1 | 101928 | CHEMCORP SUPER POOL SHOCK | Calcium hypochlorite—(65%).
102058-1 | 102058 | Kate's Home & Garden Neem Oil | Neem oil (See Kerry Leifer. No Inert Use without his clearance.)—(100%).
AR220001 | 71512 | Tiafenacil 339SC Herbicide | Tiafenacil—(30%).
CA170013 | 60217 | SHIELD POTATO SPROUT INHIBITOR EMULSIFIABLE CONCENTRATE | Chlorpropham—(36%).
CA200005 | 68506 | UVASYS | Sodium metabisulfite—(36.5%).
CA210004 | 64962 | EARTHTEC | Copper sulfate pentahydrate—(19.8%).
FL080007 | 63935 | CHATEAU HERBICIDE WDG | Flumioxazin—(51%).
ID220012 | 91411 | MANKOCIDE FUNGICIDE/BACTERICIDE | Copper hydroxide—(46.1%), Mancozeb—(15%).
LA220001 | 71512 | Tiafenacil 339SC Herbicide | Tiafenacil—(30%).
MA160002 | 69969 | AVIPEL (DRY) CORN SEED TREATMENT | Anthraquinone—(50%).
MS220001 | 71512 | Tiafenacil 339SC Herbicide | Tiafenacil—(30%).
NY070007 | 86203 | SAFARI 20 SG INSECTICIDE | Dinotefuran.
OR170003 | 91411 | MANKOCIDE FUNGICIDE/BACTERICIDE | Copper hydroxide—(46.1%), Mancozeb—(15%).
PA120001 | 69969 | AVIPEL (DRY) CORN SEED TREATMENT | Anthraquinone—(50%).
SD170004 | 69969 | AVIPEL HOPPER BOX (DRY) CORN SEED TREATMENT | Anthraquinone—(50%).
SD230001 | 71512 | Tiafenacil 339SC Herbicide | Tiafenacil—(30%).
SD230002 | 71512 | Tiafenacil 339SC Herbicide | Tiafenacil—(30%).
VA120001 | 69969 | AVIPEL (DRY) CORN SEED TREATMENT | Anthraquinone—(50%).
WA030030 | 91411 | MANKOCIDE | Copper hydroxide—(46.1%), Mancozeb—(15%).
WA200004 | 68506 | UVASYS | Sodium metabisulfite—(36.5%).
WA220006 | 59638 | CHATEAU EZ HERBICIDE | Flumioxazin—(41.4%).
WI210006 | 69969 | Avipel Dry Corn Seed Treatment | Anthraquinone—(50%).

Table 4 of this unit includes the names and addresses of record for all registrants of the products in table 3, in sequence by EPA company number. This number corresponds to the first part of the EPA registration numbers of the products listed in this unit.

Table 4—Registrants of Registrations Cancelled for Non-Response/Payment of 2024 Maintenance Fee
Company No. | Company name and address
106 | Brulin & Company Inc, P.O. Box 270, Indianapolis, IN, 46206.
211 | Central Solutions, Inc., 401 Funston Road, Kansas City, KS, 66115.
224 | Phillips 66 Company, 411 S. Keeler, Bartlesville, OK, 74003.
1007 | Zoetis Inc., 333 Portage Street, Kalamazoo, MI, 49007.
1130 | Weiman Products, Llc., 755 Tri State Parkway, Gurnee, IL, 60031.
2749 | Aceto Life Sciences, L.L.C., D/B/A Actylis, 4 Tri Harbor Court, Port Washington, NY, 11050.
3095 | Pic Corporation, 1101-1107 West Elizabeth Avenue, Linden, NJ, 07036.
3487 | Bacon Products Company, Inc., P.O. Box 22187, Chattanooga, TN, 37422.
4959 | West Agro, Inc., 11100 N. Congress Ave., Kansas City, MO, 64153.
7698 | Ridley USA Inc., 111 West Cherry Street, Suite 500, Mankato, MN, 56001.
9009 | Online Packaging Inc, 4311 Liberty Lane, Plover, WI, 54467.
9404 | Vogel Seed & Fertilizer, Llc/Florida Division, 1891 Spring Valley Road, Jackson, WI, 53037.
11773 | Van Diest Supply Company, P.O. Box 610, Webster City, IA, 50595.
20729 | Klenswite Pool/Spa Supply Co., Inc., 2410 Rt. 9 South, Rio Grande, NJ, 08242.
21165 | Pyranha, Inc., 1164 Jordan Ranch Blvd, Brookshire, TX, 77423.
21268 | Namco, Llc, 100 Sanrico Drive, Manchester, CT, 06040.
32273 | Behr Process Corporation, 1801 E. St. Andrew Place, Santa Ana, CA, 92705.
33427 | Aceto Us, L.L.C., D/B/A/Actylis, 4 Tri Harbor Court, Port Washington, NY, 11050.
34370 | Wechem, Inc., 5734 Susitna Drive, Harahan, LA, 70123.
35900 | Franklin Water Treatment, Llc, 9255 Coverdale Road, Fort Wayne, IN, 46809.
36638 | Scentry Biologicals, Inc., 610 Central Avenue, Billings, MT, 59102.
36864 | Pierson Laboratories Inc., 7400 Alumax Dr., Texarkana, TX, 75501.
38104 | Away Chemical Corp, 12503 Exchange Drive, Suite 540, Stafford, TX, 77477.
41619 | E.J. Miller & Sons Pool Company, 388 Church Road, Mifflinburg, PA, 17844.
42519 | Luxembourg-Pamol, Inc., 3647 Willowbend Blvd., Suite 810, Houston, TX, 77054.
42882 | Gametrics Limited, 426 Lonesome Country Road, Alzada, MT, 59311.
46579 | Dickson Chemical Co., Inc., 2110 S Prairie St, Stuttgart, AR, 72160.
46779 | Rancher's Supply Inc, P.O. Box 725, Alpine, TX, 79831.
47265 | Shin-Etsu Chemical Co., Ltd., 4-1, Marunouchi 1-Chome, Chiyoda-Ku, Tokyo, 100-0005.
48234 | Regal Chemical Co., 600 Branch Dr, Alpharetta, GA, 30004.
49538 | Phyton Corporation, 13505 Industrial Park Blvd, Plymouth, MN, 55441.
51219 | Rectorseal Llc, 2601 Spenwick Drive, Houston, TX, 77055.
51311 | HBC Chemical, Llc, 324a Half Acre Road, Cranbury, NJ, 08512.
52484 | The Lubrizol Corporation, 29400 Lakeland Blvd., Wickliffe, OH, 44092.
53575 | Pacific Biocontrol Corporation, 14615 Ne 13th Court, Vancouver, WA, 98685.
54998 | Capo Industries, Ltd., 1200 Corporate Drive, Burlington, Ontario L7l 5r6,,.
55467 | Tenkoz Inc, 1725 Windward Concourse, Suite 410, Alpharetta, GA, 30005.
56336 | Suterra Llc, 20950 Northeast Talus Place, Bend, OR 97701.
58007 | 3m, 3m Center, Building 220-6e-03, St Paul, MN, 55144.
58945 | Mid-Valley Ag. Svc. Inc., P.O. Box 728, Oakdale, CA, 95361.
59106 | The Lubrizol Corporation, 29400 Lakeland Blvd., Wickliffe, OH, 44092.
59657 | Permviro Systems Inc, 3520 Trotter Dr, Alpharetta, GA, 30004.
59807 | Ohp, Inc., 5151 Mccrimmon Pkwy Ste 275, Morrisville, NC, 27560.
59825 | The Lubrizol Corporation, 29400 Lakeland Blvd., Wickliffe, OH, 44092.
63935 | Third Party Registrations, Inc., P.O. Box 948153, Maitland, FL, 32794.
64137 | Danstar Ferment Ag/Lallemand Plant Care, Poststrasse 30, Ch-6300 Zug,,.
64910 | Specialty Glass Inc., 305 Marlborough Street, Oldsmar, FL, 34677.
64962 | Earth Science Laboratories, Inc., 903 North 47th Street, Suite 105, Rogers, AR, 72756.
65656 | Gilmore Marketing And Development, 6070 Poplar Avenue, Suite 710, Memphis, TN, 38187.
65787 | Angelini Pharma Inc., 230 Peachtree Street, NW, Suite 1250, Atlanta, GA, 30303.
67503 | Medachieve Inc, 49 Timber Park Drive, Black Mountain, NC, 28711.
68186 | Ijo Products, Llc, 4672 W. Jennifer, Suite 103, Fresno, CA, 93722.
68506 | Tessara (Pty) Ltd, 35 Kinghall Avenue, Epping 2, Cape Town, , 7460.
68719 | Marco Industries Incorporated, 9220 S.E. Stark St, Portland, OR, 97216.
69151 | Paroxmed, Llc, 23350 S. 216th Street, Queen Creek, AZ, 85142.
69340 | Andersen Sterilizers, Inc., Health Science Park, 3154 Caroline Drive, Haw River, NC, 27258.
69361 | Repar Corp, P.O. Box 4321, Silver Spring, MD, 20914.
69407 | Animal Dermatology Laboratories, P.O. Box 19097, Irvine, CA 92623.
69526 | Petro-Canada Lubricants Inc., D/B/A Intelligro, 385 Southdown Road, Mississauga, Ontario L5j 2y3,,.
69766 | Advanced Foliar Nutrients Systems, 6501 Schirra Court, Suite 101, Bakersfield, CA, 93313.
69969 | Arkion Life Sciences, Llc, 551 Mews Drive Suite J, New Castle, DE, 19720.
70062 | Babolna Bioenvironmental Centre Private Limited Company, 1107 Budapest, Szallas U. 6,,,.
70209 | TLFUSA/Canada, Inc, 525 Woodland Square Blvd. Suite 250, Conroe, TX, 77384.
70305 | HBC Chemical, Llc, 324 Half Acre Rd., Cranbury, NJ, 08512.
70385 | Prorestore Products, 15180 Josh Wilson Road, Burlington, WA, 98233.
70804 | Usalco Llc, 2601 Cannery Avenue, Baltimore, MD, 21226.
71297 | Agrofresh Inc., 510-530 Walnut Street—Suite 1350, Philadelphia, PA, 19106.
71332 | Envirogard Products Limited, 446 Major Mackenzie Drive East, Unit 6, Richmond Hill, On L4c 1j2, Canada,,.
71406 | Wolman Wood And Fire Protection Gmbh, Dr.-Wolman Strasse 31-33, D-7654 7 Sinzheim,,.
71512 | Isk Biosciences Corporation, 7470 Auburn Road, Suite A, Concord, OH, 44077.
72265 | Security Equipment Corporation, 747 Sun Park Drive, Fenton, MO, 63026.
72500 | Scimetrics, Ltd. Corporation, P.O. Box 1045, Wellington, CO, 80549.
72959 | D&D Holdings, Inc., 153 Triangle Drive, Weyers Cave, VA, 24486.
73479 | Suterra Llc, 20950 Northeast Talus Place, Bend, OR 97701.
73667 | Apyron Technologies, 3317 Chamblee Dunwoody Road, Chamblee, GA, 30341.
73711 | Biolene S.R.L., Pontevedra Merlo Partido (B1761bwn), Buenos Aires,,.
74267 | Premier Tech Growers And Consumers Inc., 200 Kelly Road, Unit E-1, Quakertown, PA, 18951.
74559 | Virox Technologies, Inc., 2770 Coventry Road, Oakville, Ontario L6h 6r1,,.
75459 | Albaad Massuot Yitzhak Ltd.,, Massuot Yitzhak 79858,,.
75661 | Positive Impact Waste Solutions, Llc, P.O. Box 1725, Paramus, NJ, 07653.
79533 | Wisconsin Pharmacal Company, Llc, 1 Pharmacal Way, Jackson, WI, 53037.
81242 | Yclean Enterprises, Llc, 1055 Parsippany Boulevard, Suite 204, Parsippany, NJ, 07054.
81927 | Alligare, Llc, 1565 5th Avenue, Opelika, AL, 36801.
81936 | Weed Works, Inc., 2023 E. Sims Way, Suite 358, Port Townsend, WA, 98368.
81951 | Roc Enterprises, Llc, 1908 West K 140 Hwy, Salina, KS, 67401.
82012 | Copper Development Association (CDA), 260 Madison Avenue, New York, NY, 10016.
82123 | Allergy Technologies Llc, 425 Commerce Drive Suite 300, Fort Washington, PA, 19034.
82796 | Hawkins, Inc., 2381 Rosegate, Roseville, MN, 55113.
82810 | Dermaegis, Inc., 5730 Clarendon Drive, Rockford, IL, 61114.
83168 | Suffolk Sales And Service Corporation, 1881 Governor's Pointe Dr., Suite A, Suffolk, VA, 23433.
83190 | Bluewater Chemgroup, Inc., P.O. Box 11384, Fort Wayne, IN, 46857.
83451 | Bwa Water Additives Us Llc, 5544 Oakdale Road, Se, Smyrna, GA, 30082.
83933 | Preschem Pty. Ltd, 147-149 Herald St, Cheltenham, Victoria 3192,,.
83997 | Viance, Llc, 8001 Ibm Drive, Charlotte, NC, 28262.
84059 | Pro Farm Group, Inc., 1530 Drew Ave., Davis, CA, 95618.
84069 | Summerset Products, 130 Columbia Court, Chaska, MN, 55318.
84149 | Economy Mud Products Company, 435 East Anderson Road, Houston, TX, 77245.
84189 | Rudolf Gmbh & Co. Kg, Altvaterstrasse 58-64, Geretsried,,.
84396 | Sungro Products, Llc, 810 E. 18th Street, Los Angeles, CA, 90021.
85493 | Repellex Usa, Inc., P.O. Box 396, Niles, MI, 49120.
86014 | Carestream Health, Inc., 2000 Howard Smith Avenue West, Windsor, CO, 80550.
86064 | United Turf Alliance, Llc., 8014 Cumming Highway, Suite 403-282, Canton, GA, 30115.
86106 | KOA Glass Company, Ltd., 25-27 Hirai 1-Chrome, Edogawa-Ku, Tokyo, 132-0035,,.
86197 | FSTI, Inc., 6300 Bridgepoint Parkway, Suite 1-200, Austin, Tx, 78730.
86203 | Mitsui Chemicals Crop & Life Solutions, Inc., 1-19-1, Nihonbashi, Chuo-Ku, Tokyo, 103-0027,,.
86277 | Farmway, Inc., P.O. Box 640, Hockessin, DE, 19707.
86583 | Roth Chemical Company, Ltd., 7200 West 132nd Street, Suite 360, Overland Park, KS, 66213.
86829 | Macrotech Industries, Inc., 246 Mamaroneck Road, Scarsdale, NY, 10583.
87326 | TotalEnergies Petrochemicals & Refining USA, Inc., 1201 Louisiana Street, Suite 1800, Houston, TX, 77002.
87358 | Quick-Med Technologies, Inc., 902 NW, 4th Street, Gainesville, FL, 32601.
87518 | HSP USA, Llc, 3111 Route 38, Suite 11, #310, Mount Laurel, NJ, 08054.
87656 | Flex Ai, Llc, 5300 Derry Street, Harrisburg, PA, 17111.
87703 | Spectrum Brands Pet Group, Inc. D/B/A United Pet Group, Inc., 3001 Commerce Street, Blacksburg, VA, 24060.
87769 | Glorion, Llc, P.O. Box 21720, Mesa, AZ, 85277.
88347 | Phyllom Bioproducts Corporation, 484 Lake Park Avenue, #23, Oakland, CA, 94610.
88714 | Water Science Technologies, Llc, 1701 Vanderbilt Road, Birmingham, AL, 35234.
88760 | Terramera, Inc., 199 W 6th Ave., Vancouver, BC V5y Ik3,,.
88999 | Aquagenics Technologies, Inc., 2764 Golfview Drive, Naperville, IL, 60540.
89816 | Mebrom Corp., 251 Little Falls Drive, Wilmington, DE, 19808.
89867 | Airgas USA, Llc, 259 N. Radnor-Chester Road, Suite 100, Radnor, PA, 19087.
90098 | Central Garden & Pet, Garden Division, 1000 Parkwood Circle, Suite 700, Atlanta, GA, 30339.
90271 | Process Cleaning Solutions Ltd, 2060 Fisher Drive, Peterborough, Onk9j-8n4,,.
90287 | Consumer Product Partners, Llc, 8515 Page Avenue, St. Louis, MO, 63114.
90290 | Adela Monica Buljubasich, Mapasingue Oeste Calle 5a Y Avenida 3 A, Guayaquil Ecuador,,.
91163 | Texas Corn Producers Board, 4205 North Interstate 27, Lubbock, TX, 79403.
91174 | J & S Chem Co., 25488 Hwy 45, Brooksville, MS, 39739.
91243 | Ong Consulting, Llc, 2513 Winners Circle, Heath, TX, 75126.
91283 | Amoeba Sa, 38 Avenue Des Fr Res Montgolfier, F-69680 Chassieu,,,.
91411 | Cosaco Llc, 12701 Almeda Road, Houston, TX, 77045.
91605 | Florida Insect Control Group, Llc, 5305 NW 72nd St., Gainesville, FL, 32653.
91853 | Atoms F.D. Inc., 3485 Rue Ashby, Ville Saint Laurent, Quebec H4r 2k3,,.
91899 | Span-World Llc., P.O. Box 18155, Golden, CO, 80402.
92024 | Microshield 360, 4700 Rockside Road Suite, Independence, OH, 44131.
92029 | Shanghai Fortune Apparel Co. Ltd., Zhongchun Road 7001-D-1202, Minggu Tech. Park, Shanghai,,.
92138 | MJ Tools Corp., 644 Migaldi Lane, Suite 500, Lansing, MI, 48917.
92388 | Lemi Shine, 1250 South Capital Hwy Of Texas, Suite 1350, Austin, TX, 78746.
92393 | Xypex Chemical Corporation, 13731 Mayfield Place, Richmond BC C V6v 2g9,,.
92413 | Tevra Brands, Llc., 9100 F Street, Suite 200, Omaha, NE, 68127.
92686 | DNW Global, Llc, P.O. Box 2312, Windermere, FL, 34786.
92967 | Avenger Products Llc, 1605 Candler Road, Gainesville, GA, 30507.
93113 | Pi Industries, Inc., 8275 S. Eastern Avenue, Suite #200-882, Las Vegas, NV, 89123.
93365 | Orion KME, Llc, 425 Westchester Lane, Valparaiso, IN, 46384.
93392 | Aquaox, Llc, 17355 Hamlin Boulevard, Loxahatchee, FL, 33470.
93455 | Latin America Regulatory Service (Lars), Llc, 7110 Harcout Crossing, Indian Land, SC, 29707.
93496 | CJS SPC Ekoprom, 140070, 11 Garshina Str, Tomilino Town, Moscow Region 140070,,.
93585 | Chemlogic, Inc., 992 E. Texas Avenue, Rayne, LA, 70578.
93672 | Neosan Labs Inc., 1925 Aspen Drive, #702, Santa Fe, NM, 87505.
93740 | Contact Biosolutions USA, Inc., 4947 Us 75 Avenue, Maurice, IA, 51036.
93756 | Purox Brands Corp, 5801 E 10th Ave, Suite 108, Hialeah, FL, 33013.
94278 | Oasis Chemicals, Llc, 9821 Highway 62, Wolfforth, TX, 79382.
94396 | Aquatrols Corporation Of America, 1273 Imperial Way, Paulsboro, NJ, 08066.
95366 | Touchstone Enviro Solutions, Inc., 30 North Gould, Suite R, Sheridan, WY, 82801.
95729 | Ag Concepts Corp., 439 East Shore Drive Suite 200, Eagle, ID, 83616.
95921 | Electrocharged Aqua Solutions Inc, 1550 S Anaheim Blvd Ste. B,, Anaheim, CA, 92805.
96282 | G. Clo Inc., 100 Maeyeo-Ro, Dong-Gu, Daegu,,.
96738 | Vaxman Group 2015 Ltd., Gordon 1, Haifa, 3276414, Israel.
98159 | BioSafe90, LLC, 6115 Skyline Drive, Houston, TX, 77057.
98919 | Wistwell, 515 Valley Street, Ste 130, Maplewood, NJ, 07040.
99503 | Environmental Fluids, Inc., 4241 N. Winfield Scott Plaza, Suite 101, Scottsdale, AZ, 85821.
100219 | Happy Sisters Distribution LLC, 2934 Woodhams Ave., Portage, MI, 49002.
101928 | Chemcorp, 14931 NW 27th Ave, Opa Locka, FL, 33054.
102058 | XYZ Innovators LLC, 17870 Newhope St. #104-222, Fountain Valley, CA, 92708.

III. Summary of Public Comments Received and Agency Response to Comments

As indicated in unit I.C., EPA did receive comments in response to the notice of receipt that published in the Federal Register of November 19, 2024. EPA received comments to withdraw requests and payments for several companies in tables 3 and 4. Subsequently, those products have been removed from tables 3 and company name and address from table 4.

IV. Provisions for Disposition of Existing Stocks

Existing stocks are those stocks of registered pesticide products which are currently in the United States, and which were packaged, labeled, and released for shipment prior to the effective date of the cancellation action. The existing stocks provisions for the products subject to this order are as follows.

The registrants listed in table 2 of unit II. may continue to sell and distribute existing stocks of products listed in table 1 of unit II. until January 13, 2025. Thereafter, the registrants are prohibited from selling or distributing products listed in table 1 of unit II., except for export in accordance with FIFRA section 17 (7 U.S.C. 136o), or proper disposal. Persons other than the registrants listed in table 2 of unit II. may sell, distribute, or use existing stocks of products listed in table 1 of unit II. until existing stocks are exhausted, provided that such sale, distribution, or use is consistent with the terms of the previously approved labeling on, or that accompanied, the canceled products.

The registrants listed in table 4 of unit II. may continue to sell and distribute products listed in table 3 of unit II. until January 16, 2025. Under EPA's existing stocks policy, if a registrant fails to pay the appropriate maintenance fee and the product subject to that fee is later canceled, the registrant will generally not be allowed to sell or distribute existing stocks of the cancelled product more than 1 year after the date the maintenance fee was due. Here, registrants of products listed in table 3 of unit II. were required to submit maintenance fees by January 16, 2024. Persons other than registrants listed in table 4 of unit II. may sell, distribute, or use existing stocks of products listed in table 3 of unit II. until existing stocks are exhausted, provided that such sale, distribution, or use is consistent with the terms of the previously approved labeling on, or that accompanied, the canceled products.

Authority: 7 U.S.C. 136 et seq.

Dated: January 3, 2025.
Charles Smith,
Director, Registration Division, Office of Pesticide Programs.

[FR Doc. 2025-00461 Filed 1-10-25; 8:45 am]

BILLING CODE 6560-50-P